ENVIRONMENTAL PROTECTION AGENCY

40 CFR Part 52

[EPA-R01-OAR-2011-0148; A-1-FRL-9901-72-Region 1]

Approval and Promulgation of Air Quality Implementation Plans; Rhode Island: Prevention of Significant Deterioration; Greenhouse Gas Permitting Authority and Tailoring Rule

AGENCY: Environmental Protection Agency (EPA).

ACTION: Proposed rule.

SUMMARY: EPA is proposing to fully approve certain revisions to the Rhode Island State Implementation Plan (SIP) primarily relating to regulation of Greenhouse Gases (GHGs) under Rhode Island's Prevention of Significant Deterioration (PSD) preconstruction permitting program. EPA is also proposing to fully approve the State's definition of “PM2.5” (fine particulate matter) which is specific only to permitting. Certain of the State's SIP revisions consist of definitions that also relate more broadly to the State's PSD and nonattainment new source review (NSR) preconstruction permitting requirements, i.e., to major stationary sources that also emit regulated new source review pollutants other than GHGs. EPA is proposing to conditionally approve those definitions as they relate to the non-GHG pollutants. All of the revisions in question were submitted by Rhode Island, through the Rhode Island Department of Environmental Management (RI DEM) Office of Air Resources, on January 18, 2011. They are primarily intended to align Rhode Island's SIP regulations with EPA's “Prevention of Significant Deterioration and Title V Greenhouse Gas Tailoring Rule.” Finally, EPA is not taking action on certain other SIP revisions contained in RI DEM's January 18, 2011 submittal.

DATES: Written comments must be received on or before November 25, 2013.

ADDRESSES: Submit your comments, identified by Docket ID No. EPA-R01-OAR-2011-0148 by one of the following methods:

1. www.regulations.gov: Follow the on-line instructions for submitting comments.

2. Email: dahl.donald@epa.gov

3. Fax: (617) 918-0167

4. Mail: “Docket Identification Number EPA-R01-OAR-2011-0148”, Donald Dahl, U.S. Environmental Protection Agency, EPA New England Regional Office, Office of Ecosystem Protection, Air Permits, Toxics, and Indoor Programs Unit, 5 Post Office Square—Suite 100, (Mail code OEP05-2), Boston, MA 02109-3912.

5. Hand Delivery or Courier: Deliver your comments to: Donald Dahl, U.S. Environmental Protection Agency, EPA New England Regional Office, Office of Ecosystem Protection, Air Permits, Toxics, and Indoor Programs Unit, 5 Post Office Square—Suite 100, (mail code OEP05-2), Boston, MA 02109-3912. Such deliveries are only accepted during the Regional Office's normal hours of operation. The Regional Office's official hours of business are Monday through Friday, 8:30 to 4:30, excluding legal holidays.

Please see the direct final rule which is located in the Rules Section of this issue of the Federal Register for detailed instructions on how to submit comments.

FOR FURTHER INFORMATION CONTACT: For information regarding the Rhode Island SIP, contact Donald Dahl, U.S. Environmental Protection Agency, EPA New England Regional Office, Office of Ecosystem Protection, Air Permits, Toxics, and Indoor Programs Unit, 5 Post Office Square—Suite 100, (mail code OEP05-2), Boston, MA 02109-3912. Mr. Dahl's telephone number is (617) 918-1657; email address: dahl.donald@epa.gov.

SUPPLEMENTARY INFORMATION: In the Final Rules Section of this Federal Register, EPA is approving the State's SIP submittal as a direct final rule without prior proposal because the Agency views this as a noncontroversial submittal and anticipates no adverse comments. A detailed rationale for the approval is set forth in the notice published today for the direct final rule. If no adverse comments are received in response to this action, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule which is located in the Final Rules Section of this Federal Register.

Dated: September 20, 2013.
H. Curtis Spalding,
Regional Administrator, EPA New England.

[FR Doc. 2013-24846 Filed 10-23-13; 8:45 am]

BILLING CODE 6560-50-P